DEPARTMENT OF THE INTERIOR

Bureau of Land Management

[LLCA932000. 17X.L13400000. DP0000.LXSSB0020000 CACA057064]

Cancellation of Withdrawal Application and Withdrawal Proposal and Termination of Environmental Impact Statement for California Desert Conservation Area Withdrawal, California

AGENCY: Bureau of Land Management, Interior.

ACTION: Notice of cancellation.

SUMMARY: The Bureau of Land Management (BLM) has canceled its withdrawal application and the withdrawal proposal relating to 1,337,904 acres of public lands within designated California Desert National Conservation Lands. The BLM has determined that the lands are no longer needed in connection with the proposed withdrawal. This notice terminates the temporary segregation from location and entry under the United States mining laws, subject to valid existing rights, the provision of existing withdrawals, other segregations of record, and the requirements of applicable law, as described further below. The BLM has also terminated the preparation of an Environmental Impact Statement evaluating this application and proposal.

DATES: This Notice is applicable on February 7, 2018.

FOR FURTHER INFORMATION CONTACT: Russell Scofield, Desert Renewable Energy Conservation Plan Implementation Lead, phone: 760-833-7139, 1201 Bird Center Drive, Palm Springs, CA 992262-8001; email ascofiel@blm.gov. Persons who use a telecommunications device for the deaf (TDD) may call the Federal Relay Service (FRS) at 1-800-877-8339 to reach the BLM contact person. The FRS is available 24 hours a day, 7 days a week, to leave a message or question with the above individual. You will receive a reply during normal business hours.

SUPPLEMENTARY INFORMATION: A Notice of Proposed Withdrawal was published in the Federal Register (81 FR 95738) on December 28, 2016, of the Department's proposal to withdraw 1,337,904 acres of public lands within designated California Desert National Conservation Lands from location and entry under the United States mining laws, but not from mineral or geothermal leasing or mineral materials laws, subject to valid existing rights. Because the BLM has determined that the lands are no longer needed in connection with the proposed withdrawal, the BLM has canceled the proposed withdrawal and its application in support thereof and has terminated the associated environmental analysis process.

Pursuant to 43 CFR 2310.1-4, the segregative effect for the lands described in 81 FR 95738 is terminated and the lands opened as follows: At 10 a.m. on March 9, 2018, the public lands described will be opened to location and entry under the United States mining laws, subject to valid existing rights, the provision of existing withdrawals, other segregations of record, and the requirements of applicable law. Appropriation of lands under the mining laws prior to the date and time of restoration is unauthorized. Any such attempted appropriation, including attempted adverse possession under 30 U.S.C. 38, shall vest no rights against the United States. Acts required to establish a location and to initiate a right of possession are governed by State law where not in conflict with Federal law. The BLM will not intervene in disputes between rival locators over possessory rights given that Congress has provided for such determinations in local courts.

Jerome E. Perez,
California State Director.

[FR Doc. 2018-02422 Filed 2-6-18; 8:45 am]

BILLING CODE 4310-40-P